DEPARTMENT OF ENERGY

Federal Energy Regulatory Commission

[Docket No. ER04-824-001, et al.]

PECO Energy Company, et al.; Electric Rate and Corporate Filings

August 6, 2004.

The following filings have been made with the Commission. The filings are listed in ascending order within each docket classification.

1. PECO Energy Company

[Docket Nos. ER04-824-001 and ER04-825-001]

Take notice that on August 2, 2004, PECO Energy Company (PECO Energy) tendered for filing a response to the deficiency letter issued on July 2, 2004, in Docket Nos. ER04-824-000 and ER04-825-000. PECO Energy states that the filing deals with revisions to two interconnection agreements between PECO Energy and Exelon Generation Company, LLC, which PECO Energy filed with the Commission on May 7, 2004.

Comment Date: 5 p.m. eastern time on August 23, 2004.

2. Calpine Energy Management, L.P.

[Docket No. ER04-1080-000]

Take notice that on August 2, 2004, Calpine Energy Management, L.P. (CEM) filed a Notice of Succession to adopt CES Marketing IV, L.P.'s market-based rate authorizations and an amendment to its FERC Rate Schedule No. 1 to include a tariff provision prohibiting power sales to affiliated public utilities with a franchised electric service territory. CEM requests an effective date of August 3, 2004.

Comment Date: 5 p.m. eastern time on August 23, 2004.

3. PCF2, LLC

[Docket No. ER04-1081-000]

Take notice that on August 2, 2004, PCF2, LLC (PCF2), filed a Notice of Succession to adopt CES Marketing III, LLC's market-based rate authorizations and an amendment to its FERC Rate Schedule No. 1 to include a tariff provision prohibiting power sales to affiliated public utilities with a franchised electric service territory. PCF2 requests an effective date of August 3, 2004.

Comment Date: 5 p.m. eastern time on August 23, 2004.

4. BS Energy LP

[Docket No. ER04-1082-000]

Take notice that on August 2, 2004, BS Energy LP (BSELP) filed BS Energy LP Rate Schedule FERC No. 1, and requested the granting of certain blanket approvals, including the authority to sell electricity at market-based rates, and requested the waiver of certain Commission regulations. BSELP states that it intends to engage in wholesale electric power and energy purchases and sales as a marketer. BSELP also states that it is not engaged in the business of generating or transmitting electric power.

Comment Date: 5 p.m. eastern time on August 23, 2004.

5. Foothills Generating, L.L.C.

[Docket No. ER04-1085-000]

Take notice that on August 2, 2004, Foothills Generating, L.L.C. (Foothills) filed a Notice of Cancellation of its Market-Based FERC Electric Rate Tariff and all rate schedules and/or service agreements, effective October 1, 2004.

Comment Date: 5 p.m. eastern time on August 23, 2004.

6. Illinois Power Company and Midwest Independent Transmission System Operator, Inc.

[Docket No. ER04-1091-000]

Take notice that on August 2, 2004, Illinois Power Company (Illinois Power) and the Midwest Independent Transmission System Operator, Inc. (Midwest ISO), (collectively Applicants) filed an application requesting that the Commission authorize the Midwest ISO to: (1) Return to Illinois Power the “exit fee” payment that Illinois Power made when it withdrew from the Midwest ISO in 2001; (2) reimburse Illinois Power for the costs that it incurred in connection with the development of the Alliance RTO; and (3) recover through Schedule 10 of the Midwest ISO's tariff, the amounts that the Midwest ISO pays to Illinois Power.

Comment Date: 5 p.m. eastern time on August 23, 2004.

7. Southwest Power Pool, Inc.

[Docket No. ER04-1096-000]

Take notice that on August 2, 2004, Southwest Power Pool, Inc. (SPP) pursuant to the Commission's order issued on July 2, 2004,¹ submitted a further compliance filing concerning the Commission's requirement of a seams agreement in connection with SPP's efforts to gain final approval as a Regional Transmission Organization (RTO) under Order Nos. 2000 and 2000-A.

¹ Southwest Power Pool, Inc., 108 FERC ¶ 61,003 (2004) (July 2 Order).

SPP states that copies of the filing were served upon the SPP's members and affected state regulatory commissions.

Comment Date: 5 p.m. eastern time on August 23, 2004.

8. Southwest Power Pool, Inc.

[Docket Nos. RT04-01-004 and ER04-48-004]

Take notice that on August 2, 2004, Southwest Power Pool, Inc. (SPP) pursuant to the Commission's order issued July 2, 2004,² submitted a further compliance filing in connection with its efforts to gain final approval as a Regional Transmission Organization (RTO) under Order Nos. 2000 and 2000-A. SPP states that, with the materials included with its August 2, 2004 filing, it has fully satisfied all outstanding compliance conditions for RTO recognition.

² Southwest Power Pool, Inc., 108 FERC ¶ 61,003 (2004).

SPP states that copies of the filing were served upon SPP's members and affected state regulatory commissions.

Comment Date: 5 p.m. eastern time on August 23, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1825 Filed 8-13-04; 8:45 am]

BILLING CODE 6717-01-P